DEPARTMENT OF ENERGY

Federal Energy Regulatory Commission

[Project No. 15021-000]

Bard College, New York; Notice of Application Accepted For Filing, Intent To Waive Scoping, and Soliciting Motions To Intervene And Protests

Take notice that the following hydroelectric application has been filed with the Commission and is available for public inspection.

a. Type of Application: Exemption from Licensing.

b. Project No.: 15021-000.

c. Date filed: December 23, 2019.

d. Applicant: Bard College, New York.

e. Name of Project: Annandale Micro Hydropower Project (Annandale Project).

f. Location: On Saw Kill, a tributary of the Hudson River, in the Town of Red Hook, Dutchess County, New York. The project does not occupy federal land.

g. Filed Pursuant to: Public Utility Regulatory Policies Act of 1978, 16 U.S.C. 2705, 2708 (2018), amended by the Hydropower Regulatory Efficiency Act of 2013, Public Law 113-23, 127 Stat. 493 (2013).

h. Applicant Contact: Randy Clum, Director, Buildings and Grounds, Bard College, 30 Campus Road, Annandale-on-Hudson, NY 12504; and/or Joel Herm/Jan Borchert, Current Hydro, Inc., PO Box 224, Rhinebeck, NY 12572.

i. FERC Contact: Monir Chowdhury, (202) 502-6736 or monir.chowdhury@ferc.gov.

j. Deadline for filing comments, motions to intervene, and protests: 60 days from the issuance date of this notice. All reply comments must be filed with the Commission within 75 days from the issuance date of this notice.

The Commission strongly encourages electronic filing. Please file motions to intervene and protests using the Commission's eFiling system at https://ferconline.ferc.gov/FERCOnline.aspx. Commenters can submit brief comments up to 6,000 characters, without prior registration, using the eComment system at https://ferconline.ferc.gov/QuickComment.. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15021-000.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted but is not ready for environmental analysis at this time.

l. The Annandale Project would consist of: (1) An existing 240-foot-long dam with a maximum height of 13 feet impounding a 3-acre reservoir at a normal pool elevation of 148 feet North American Vertical datum of 1988; (2) one new 9-foot-wide, 9-foot-long, 8-foot-high concrete tank with a spiral internal shape and housing a 10-kilowatt gravitational vortex turbine-generator unit; (3) a new 60-foot-long, 480-volt underground generator lead connecting the turbine-generator unit with an electrical panel that is connected to a step-up transformer via a new 10-foot-long, 480-volt underground transmission line; (4) a new 50-foot-long, 7.6-kilovolt underground transmission line connecting the step-up transformer to the local grid; and (5) appurtenant facilities. The project is estimated to generate an average of 51 megawatt-hours annually. The applicant proposes to operate the project in a run-of-river mode.

m. A copy of the application can be viewed on the Commission's website at https://www.ferc.gov using the “eLibrary” link. Enter the docket number excluding the last three digits in the docket number field to access the document. For assistance, contact FERC Online Support.

Register online at http://www.ferc.gov/docs-filing/esubscription.asp to be notified via email of new filings and issuances related to this or other pending projects. For assistance, contact FERC Online Support

n. Due to the small size and location of this project, the applicant's close coordination with federal and state agencies during preparation of the application, and studies completed during pre-filing consultation, we intend to waive scoping and expedite the licensing process. Based on a review of the application and resource agency consultation letters including comments filed to date, Commission staff intends to prepare a NEPA document to address resource issues identified during the pre-filing period. Commission staff does not anticipate that any new issues would be identified through additional scoping. The NEPA document will assess the potential effects of project operation on geology and soils, aquatic, terrestrial, threatened and endangered species, recreation, cultural and historic resources, and flooding upstream of the dam.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

p. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” “MOTION TO INTERVENE,” “NOTICE OF INTENT TO FILE COMPETING APPLICATION,” “COMPETING APPLICATION,” “COMMENTS,” or “REPLY COMMENTS;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

q. Updated procedural schedule and final amendments: The application will be processed according to the following procedural schedule. Revisions to the schedule may be made as appropriate.

Milestone | Target date
Issue Notice of Ready for Environmental Analysis | July 9, 2021.

Final amendments to the application must be filed with the Commission no later than 30 days from the issuance date of the notice of ready for environmental analysis.

Dated: April 15, 2021.
Kimberly D. Bose,
Secretary.

[FR Doc. 2021-08232 Filed 4-20-21; 8:45 am]

BILLING CODE 6717-01-P